DEPARTMENT OF HEALTH AND HUMAN SERVICES

Substance Abuse and Mental Health Services Administration

Fiscal Year (FY) 2022 Notice of Supplemental Funding Opportunity

AGENCY: Substance Abuse and Mental Health Services Administration, HHS.

ACTION: Notice of intent to award supplemental funding.

SUMMARY: This notice is to inform the public that the Substance Abuse and Mental Health Services Administration (SAMHSA) is supporting an administrative supplement (in scope of the parent award) up to $20,833 (total costs) for one-year to the Improving Access to Overdose Treatment grant recipients for a total of up to $104,165 (total funding). These recipients were funded in FY 2018 with a project end date of September 30, 2023. The supplemental funding will be utilized specifically to increase the number of health care providers and pharmacists who receive training and technical assistance on the prescribing of drugs or devices approved or cleared under the FDA for emergency treatment of known or suspected opioid overdose.

FOR FURTHER INFORMATION CONTACT: Judith Ellis, Substance Abuse and Mental Health Services Administration, 5600 Fishers Lane, Rockville, MD 20857, telephone (240) 276-2567; email: judith.ellis@samhsa.hhs.gov.

SUPPLEMENTARY INFORMATION: Awardees will further collaborations with healthcare providers and pharmacists to educate them on overdose dangers and standing orders for FDA-approved overdose reversal drugs to patients and individuals who support persons at high-risk for overdose.

The required activities for this supplement are as follows:

• Increase use of SAMHSA's Opioid Overdose Prevention Toolkit as a guide to develop and implement a comprehensive prevention program to reduce the number of prescription drug/opioid overdose-related deaths and adverse events among cases of known or suspected opioid overdose.

• Provide technical assistance to collaborating partner organizations and practitioners in the implementation of a comprehensive prevention program to reduce the number of prescription drug/opioid overdose-related deaths and adverse events.

• Collaborate with additional pharmacies to distribute drugs or devices approved or cleared under the Federal Food, Drug, and Cosmetic Act for emergency treatment of known or suspected opioid overdose, as permitted by state law.

• Provide targeted public education on the state's “Good Samaritan” laws related to a drug overdose, if applicable, such as those that permit bystanders to alert emergency responders to an overdose or to administer drugs or devices approved or cleared under the Federal Food, Drug, and Cosmetic Act for emergency treatment of known or suspected opioid overdose without fear of civil or criminal penalties.

This is not a formal request for application. Assistance will only be provided to the Improving Access to Overdose Treatment Funding Opportunity SP-18-006 grant recipients based on the receipt of a satisfactory application and associated budget that is approved by a review group.

Funding Opportunity Title: FY 2018 Improving Access to Overdose Treatment Funding Opportunity SP-18-006.

Assistance Listing Number: 93.243.

Authority: Section 516 of the Public Health Services Act, as amended.

Justification: Eligibility for this supplemental funding is limited the Improving Access to Overdose Treatment Funding Opportunity SP-18-006 grant recipients funded in FY 2018. These organizations are uniquely positioned to provide training and technical assistance to organizations and practitioners in prescription drug overdose prevention activities being funded through this supplement.

Carlos Graham,
Reports Clearance Officer.

[FR Doc. 2022-20436 Filed 9-20-22; 8:45 am]

BILLING CODE 4162-20-P